NATIONAL SCIENCE FOUNDATION

National Science Board and Its Subdivisions; Sunshine Act Meeting

Date and Time: March 29-30, 2005.

March 29, 2005; 7:30 a.m.-5:30 p.m.

Concurrent Sessions

7:30 a.m.-8 a.m. Closed

8 a.m.-9 a.m. Open

9:15 a.m.-10 a.m. Open

10 a.m.-11:30 a.m. Open

11:30 a.m.-12 noon Closed

1 p.m.-2 p.m. Open

2 p.m.-3:30 p.m. Open

3:30 p.m.-5 p.m. Closed

5 p.m.-5:15 p.m. Open

5:15 p.m.-5:30 p.m. Closed

March 30, 2005; 7:45 a.m.-3:15 p.m.

Concurrent Sessions

7:45 a.m.-8:30 a.m. Executive Closed

8:30 a.m.-10 a.m. Open

10 a.m.-12 noon Open

12:30 p.m.-1 p.m. Executive Closed

1:00 p.m.-1:15 p.m. Closed

1:15 p.m.-3:15 p.m. Open

Place: National Science Foundation, 4201 Wilson Blvd, Room 1235, Arlington, VA 22230.

Public Meeting Attendance: All visitors must report to the NSF's visitor's desk at the 9th and N. Stuart Streets entrance to receive a visitor's badge.

Contact Information: Please refer to the National Science Board Web site (http://www.nsf.gov/nsb) for updated schedule. NSB Office: (703) 292-7000.

Status: Part of this meeting will be closed to the public, Part of this meeting will be open to the public.

Matters to be Considered:

Tuesday, March 29, 2005

Open

Committee on Programs & Plans Subcommittee on Polar Issues (8 a.m.-9 a.m.) Room 1235

• Approval of Minutes

• International Polar Year

• Antarctic Season Logistics Highlights

• Arctic Education and Outreach

• IceCube Report

Task Force on Transformative Research [TR] (9:15 a.m.-10 a.m.) Room 1235

• Approval of Minutes

• Background Presentations

◦ “Chemical Bonding Centers: A Program to Support Transformative Research in the Chemical Sciences”

◦ “Information Visualization Tools”

• General discussion on implementing TR actions to address charter objectives

• Summary of TR milestone and timeline

Committee on Audit & Oversight (10 a.m.-11:30 a.m.) Room 1235

• Approval of Minutes

• NSB Chairman's Remarks

• Update on Plan to address Reportable Conditions of FY2004 Audit

◦ Post-award Administration

◦ Contract Monitoring

• Congressional request for NSB examination of the NSF Merit Review System

• FY 2004 Merit Review Report

• Business Analysis update [items related to Merit Review]

• Chief Financial Officer's Update

◦ FY 2004 audit—Management letter status report

◦ OMB Circular A-123 “Managements” Responsibility for Internal Control

• Sarbanes-Oxley Act and implications for the NSF

• Process of selecting financial statement auditors

Committee on Strategy & Budget (1 p.m.-2 p.m.) Room 1235

• Approval of Minutes

• Summary of Congressional budget testimony for President's FY 2006 NSF budget request to Congress

• Overview of FY 2007 budget process, with emphasis on NSB action items and time

Committee on Programs & Plans (2 p.m.-3:30 p.m.) Room 1235

• Approval of Minutes

• Status Reports

◦ Long-lived Data Collections

◦ Transformative Research Task Force

◦ Subcommittee on Polar Issues

• Discussion on Major Research Facilities

◦ Public Comments on joint NSB/NSF Response on priority setting for large facilities

◦ Review of draft Facilities Plan

◦ NSF Annual Major Facilities Plan Review

Executive Committee (5 p.m.-5:15 p.m.) Room 1235

• Approval of Minutes

• Updates or new business from Committee Members

Closed

Committee on Programs & Plans Subcommittee on Polar Issues (7:30 a.m.-8 a.m.) Room 1235

• Antarctic icebreaker—future budget issues

Committee on Audit & Oversight (11:30 a.m.-12 noon) Room 1235

• Pending Investigations

Committee on Programs & Plans (3:30 p.m.-5 p.m.) Room 1235

• Action Items

• Information Item

Executive Committee (5:15 p.m.-5:30 p.m.) Room 1235

• Board Member Proposal

• Director's Items: Specific Personnel Matters and Future Budgets

Wednesday, March 30, 2005

Open

Education & Human Resources Subcommittee on S&E Indicators (8:30 a.m.-10 a.m.) Room 1235

• Approval of Minutes

• Discussion of Elementary and Secondary Education Chapter

• Discussion of State Indicators Chapter

• Discussion of possible topics for Board Companion Piece

• Important dates for Board Companion Piece

Committee on Education & Human Resources (10 a.m.-12 noon) Room 1235

• Approval of Minutes

• AAAS Presentation: “Diversifying STEM: Policy and Practice Derived from Standing Our Ground'

• Reports and staff presentations

◦ Subcommittee on S&E Indicators

◦ NSB items

◦ NSF EHR activity update

◦ Integration of Research and Education

• Discussion items

◦ Proposal for a workshop on Engineering Education

◦ Update on Industry Panel

Executive Closed

Ad hoc committee for the 2005 Vannevar Bush Award (7:45 a.m.-8:30 a.m.) Room 1235

• Review and discussion of candidates

• Balloting

Plenary Session of the Board (12:30 p.m.-3:15 p.m.)

Executive Closed Plenary Session of the Board (12:30 p.m.-1 p.m.) Room 1235

• Approval of Executive Closed Minutes

• Board Member Proposal

• Approval of Honorary Awards

◦ Alan T. Waterman Award

◦ Vannevar Bush Award

◦ NSB Public Service Award

Closed Plenary Session of the Board (1-1:15 p.m.) Room 1235

• Approval of Closed Session Minutes

• Awards and Agreements (Resolutions)

• Closed Committee Reports

Open Plenary Session of the Board (1:15p.m.-3:15 p.m.) Room 1235

• Approval of Open Session Minutes

• Resolution to Close May 2005 Meeting

• NSB Chairman's Report

• NSF Director's Report

• Committee Reports

Michael P. Crosby,
Executive Officer, NSB.

[FR Doc. 05-5467 Filed 3-16-05; 8:47 am]

BILLING CODE 7555-01-P